DEPARTMENT OF TRANSPORTATION

Maritime Administration

[Docket No: MARAD-2000-6998]

Requested Administrative Waiver of the Coastwise Trade Laws

AGENCY: Maritime Administration, Department of Transportation.

ACTION: Invitation for public comments on a requested administrative waiver of the Coastwise Trade Laws for the vessel Ursa Major.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before April 5, 2000.

ADDRESSES: Comments should refer to docket number MARAD-2000-6998. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Public Law 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR 388.

Vessel Proposed for Waiver of the U.S.-Build Requirement

(1) Name of vessel and owner for which waiver is requested: Ursa Major, owner: V. Joyce Gauthier

(2) Size, capacity and tonnage of vessel: 65 feet in length, 109 gross tons, 87 tons net. Tonnage calculated for full displacement deep V trawler hull at time of initial documentation in 1982.

(3) Intended use for vessel, including geographic region of intended operation and trade. According to the applicant: “Vessel will be used for six to twelve passenger charters for individuals interested in touring the areas of the Puget Sound and Alaska near coastal areas.”

(4) Date and place of construction and (if applicable) rebuilding. Date of construction 1972, place of original construction: hull in Norway, upper structures and interior in Malahide, County of Dublin, Ireland. Added information from the applicant: “Reconstruction and major refits: Vessel has remained under U.S. citizenship ownership since construction and has had extensive refitting, repowering, hull work, and interior work done at various northeast shipyards (1972 to 1978), Merrill Stevens Shipyard in Florida (1978 to 1992), Seaview East in Seattle (1999-2000 and future) and currently Brower Boat Inc. in Seattle (1999-2000 and future). Work in US shipyards since launch in 1972 exceeds a minimum of 5 times its original cost and fair market value (average 1978 to 1992 was > $100,000 per year per prior owner and shipyard; 1994 to 2000 > $300,000).”

(5) A statement on the impact this waiver will have on other commercial passenger vessel operators. According to the applicant: “The Ursa Major will be joining her sistership, the Explorer, in providing custom yacht cruises in Pacific Northwest and Alaskan waters to promote the preservation of these classic full displacement wooden hulled North Sea Trawlers. Similar vessels, including sistership EXPLORER and Norwegian ROMSDAHL VIKING FJORD, have received congressional waivers of the coastwise trade laws for the purposes of doing charter cruises in Puget Sound and Southeast Alaska. These boats have provided access to the public to maritime environments for interested individual tour groups and offered quality maritime training to individuals seeking to gain skills of seamanship.

The URSA MAJOR will be commanded by Captain Mike Fleming, formerly of the VIKING FJORD. Captain Fleming has a degree in oceanography from the University of Washington. He is a retired career officer of the National Oceanographic and Atmospheric Administration (NOAA) of the Department of Commerce and is responsible for charting much of Southeast Alaska and Prince William Sound waters. He is a former Commander of NOAA coast and geodetic vessels. He is very sensitive to the cultural and biologic aspects of the areas in which we will be touring. He embodies the approach to trade and activity that the URSA MAJOR will project as a commercial operation. We will work with environmental groups and special needs groups to provide access to unique environments as customized cruises and promote the safe and responsible use of our marine environment. Studies have indicated the growth rate of cruise ship passengers booking to Alaska to increase at the rate of 20% per year over the last decade. This growth in Alaskan tourism leaves room for the entrance of additional small vessel operators without having measurable impact on existing operators. Due to the small size of these vessels and their low environmental impact they are often welcomed into areas and communities not accessible to larger ships. The small and highly individualized nature of this operation and the increasing public interest in these types of low environmental impact nature tours makes it unlikely that this will have significant negative impact on any major cruise programs or other commercial operators.”

(6) A statement on the impact this waiver will have on U.S. shipyards. According to the applicant: “The URSA MAJOR has remained under private U.S. ownership as a recreational vessel throughout her life but is a perfect candidate for the near coastal trade waiver to allow her to support her own maintenance. As such, she will be available for enjoyment by the maximum number of individuals.

As noted in Item 4 on reconstruction and major refits, the URSA MAJOR has had over five times her original cost reinvested in her renovation at U.S. shipyards to date. At this point in time no commercial U.S. shipyard is involved in construction of 65-foot wooden yachts. Therefore, granting this exemption to URSA MAJOR will have no impact on new vessel construction while providing commercial viability for this boat will assure continued marine repair work. It would not be economically feasible to construct a vessel of this type due to the lack of many of the woods and skills needed to replace her. Appropriate repair skills exist for wooden boats of this type in the Puget Sound region. This vessel remains a fine example of wooden boat building skills of the world and would allow many interested shipwrights, both professional and amateur, the opportunity to learn from her construction, her history, and sense the pride in being involved in her repair and maintenance. Her commercial viability will assure quality maintenance of this vessel for decades to come. The URSA MAJOR is currently completing a refit lasting over the last six years. This has been done exclusively at commercial Seattle shipyards amounting to over her fair market value.”

Dated: February 29, 2000.
By order of the Maritime Administrator.
Joel C. Richard,
Secretary, Maritime Administration.

[FR Doc. 00-5345 Filed 3-3-00; 8:45 am]

BILLING CODE 4910-81-P